DEPARTMENT OF COMMERCE

National Oceanic and Atmospheric Administration

50 CFR Part 679

[Docket No. 010510121-1210-02; I.D. 012601B]

RIN 0648-AN23

Fisheries of the Exclusive Economic Zone Off Alaska; Revisions to Definition of Length Overall of a Vessel

AGENCY: National Marine Fisheries Service (NMFS), National Oceanic and Atmospheric Administration (NOAA), Commerce.

ACTION: Final rule.

SUMMARY: NMFS issues a final rule to clarify the definition of length overall (LOA) of a vessel for the purposes of the regulations governing the groundfish fisheries in the exclusive economic zone (EEZ) off Alaska. The action is intended to clarify the existing definition of LOA and thus prevent any misunderstanding or equivocation by vessel owners in determining a vessel’s LOA. Also, the action is intended to further the goals and objectives of the Fishery Management Plan (FMP) for Groundfish of the Gulf of Alaska and the FMP for the Groundfish Fishery of the Bering Sea and Aleutian Islands Area.

DATES: Effective October 12, 2001.

ADDRESSES: Copies of the Regulatory Impact Review/Initial Regulatory Flexibility Analysis (RIR/IRFA) and supplemental Final Regulatory Flexibility Analysis (FRFA) are available from the Sustainable Fisheries Division, NMFS, Alaska Region, P.O. Box 21668, Juneau, AK 99802, Attn: Lori Gravel.

FOR FURTHER INFORMATION CONTACT: Patsy A. Bearden, 907-586-7228.

SUPPLEMENTARY INFORMATION: The domestic groundfish fisheries in the EEZ off Alaska are managed by NMFS under the FMPs. The FMPs were prepared by the North Pacific Fishery Management Council (Council) under the Magnuson-Stevens Fishery Conservation and Management Act (Magnuson-Stevens Act). Regulations governing the Alaska groundfish fisheries appear at 50 CFR parts 600 and 679.

This final rule clarifies the definition of vessel LOA by removing the definitions of stem and stern, revising the definition of LOA at 50 CFR 679.2 to include bulwarks explicitly, and adding a definition for bulwarks. Further information on this action may be found in the preamble to the proposed rule published at 66 FR 28883, May 25, 2001. The proposed rule invited public comment on this action through June 25, 2001. No comments were received on the proposed rule.

The final rule makes one change to the proposed rule. The proposed rule would have added to the regulations a definition of “bulwark” to read as follows: “Bulwark means a section of a vessel’s side, continued above the main deck as a protection against heavy weather.” This final rule revises that definition to delete the phrase “as a protection against heavy weather.” That phrase is merely descriptive, not essential to defining a bulwark, and, as such, is inappropriate for the regulatory definition.

Explanation of Rounding Conventions

The following conventions will be used when rounding the LOA to the nearest foot:

(1) When the amount exceeding a whole foot measurement is less than 6 inches (15.2 cm), the LOA would be equal to that whole foot measurement. For example, if the horizontal distance of a vessel is 124 ft, 5-3/4 inches (37.9 m), the LOA of the vessel would be 124 ft (37.8 m).

(2) When the amount exceeding a whole foot measurement is greater than 6 inches (15.2 cm), the LOA would be equal to the next whole foot measurement. For example, if the horizontal distance of a vessel is 124 ft, 6-1/8 inches (38.0 m), the LOA of the vessel would be 125 ft (38.1 m).

(3) When the amount exceeding a whole foot measurement is exactly 6 inches (15.2 cm), the LOA would be equal to that whole foot measurement if the number is even; however, if the number is odd, the LOA would be equal to the next whole foot measurement. For example, if the horizontal distance of a vessel is 124 ft, 6 inches (37.9 m), the LOA of the vessel would be 124 ft (37.8 m), but, if the horizontal distance of the vessel is 59 ft, 6 inches (18.1 m), the LOA of the vessel would be 60 ft (18.3 m).

Classification

This final rule has been determined to be not significant for purposes of Executive Order 12866.

NMFS prepared a supplemental FRFA that analyzes the potential impact of this action on small entities for purposes of the Regulatory Flexibility Act (RFA). NMFS considered the status quo or “no action” alternative of retaining the present definition of LOA without change. However, this was rejected in order to define LOA unambiguously and provide clear and certain regulatory guidance for measuring LOA of fishing vessels operating in the EEZ off Alaska. While this action is intended simply to clarify the existing definition of LOA and thus prevent any misunderstanding or equivocation by vessel owners in determining a vessel’s LOA, some vessels currently operating in the EEZ off Alaska under Federal Fisheries Permits may find their registered LOAs to be inconsistent with the regulatory definition of LOA. At present, approximately 1,613 vessels are registered to operate in the EEZ off Alaska under Federal Fisheries Permits. NMFS has taken steps to mitigate the impact of this action on small entities by not requiring vessel owners to determine whether their registered LOAs are consistent with the revised definition. Nevertheless, some of the 1,613 vessels currently operating in the EEZ off Alaska under Federal Fisheries Permits may find their registered LOAs to be inconsistent with the regulatory definition of LOA. Vessels failing to have correct LOA measurements may incur costs associated with remeasuring their LOA. Unfortunately, at this time, NMFS has insufficient data to assess the actual number of such vessels affected in this manner, but it believes most LOAs are accurate.

However, vessels that are near observer coverage thresholds (125 ft (38.1 m) or 60 ft (18.3 m), as applicable) may incur considerable cost if it is determined that their LOA is incorrect and if a higher level of observer coverage would be required. Approximately 38 vessels with recorded LOA measurements of 122 ft (37.2 m), 123 ft (37.5 m), and 124 ft (37.8 m), may be subject to more stringent observer requirements if their LOAs are actually 125 ft (38.1 m), or greater. Approximately 156 vessels with LOA measurements of 57 ft (17.4 m), 58 ft (17.7 m), and 59 ft (18.0 m) may be subject to more stringent observer requirements if their LOAs are actually 60 ft (18.3 m) or greater. Such vessels could incur costs of $300/day for an observer.

The FRFA provides some evidence that bulwarks are typically included in measurements of LOA by marine surveyors.

List of Subjects in 50 CFR Part 679

Alaska, Fisheries, Recordkeeping and reporting requirements.

Dated: September 5, 2001.
John Oliver,
Acting Assistant Administrator for Fisheries, National Marine Fisheries Service.

For the reasons set forth in the preamble, 50 CFR part 679 is amended as follows:

PART 679—FISHERIES OF THE EXCLUSIVE ECONOMIC ZONE OFF ALASKA

1. The authority citation for 50 CFR part 679 continues to read as follows:

Authority: 16 U.S.C. 773 et seq., 1801 et seq., and 3631 et seq.; title II of Division C, Pub. L. 105-277; Sec. 3027, Pub. L. 106-31, 113 Stat. 57; 16 U.S.C. 1540(f).

2. In § 679.2, the definition for “Bulwark” is added in alphabetical order, the definition for “Length overall of a vessel” is revised; and the definitions for “Stem” and “Stern” are removed as follows:

§ 679.2 Definitions.

* * * * *

Bulwark means a section of a vessel’s side continuing above the main deck.

* * * * *

Length overall (LOA) of a vessel means the centerline longitudinal distance, rounded to the nearest foot, measured between:

(1) The outside foremost part of the vessel visible above the waterline, including bulwarks, but excluding bowsprits and similar fittings or attachments, and

(2) The outside aftermost part of the vessel visible above the waterline, including bulwarks, but excluding rudders, outboard motor brackets, and similar fittings or attachments (see Figure 6 to this part).

* * * * *

[FR Doc. 01-22807 Filed 9-11-01; 8:45 am]

BILLING CODE 3510-22-S